DEPARTMENT OF THE INTERIOR

National Park Service

Pacific West Region; San Francisco Maritime National Historical Park; Notice of Meeting and Request for Public Comment

The National Park Service is seeking public comments regarding the restoration and preservation efforts and plans for the fleet of seven historical ships located at Hyde Street Pier, San Francisco Maritime National Historical Park.

In addition, public comments and questions are being sought regarding the historic leasing act project to convert the Haslett Warehouse building into a hotel and museum/visitor center.

A public meeting will be held on April 11, from 10:00 am until 12:15 pm at the Firehouse Building F, Lower Fort Mason Center, San Francisco, California.

All written comments will be available for public review. We anticipate that we will tape record and transcribe oral comments that are submitted at the April 11th meeting, and that these comments will also be available for public review.

FOR FURTHER INFORMATION CONTACT: San Francisco Maritime National Historical Park Superintendent William G. Thomas at (415) 556-6282.

Department of Interior Agenda for the April 11, 2001 Public Meeting of the Advisory Commission for the San Francisco Martime National Historical Park

Firehouse Building F, Lower Fort Mason Center 10:00 am-12:15 pm

10 am

Welcome—Neit Chaitin, Chairman

Opening Remarks—Neil Chaitin, Chairman

Approval of Minutes from Previous Meeting

10:15 am

William Thomas, Superintendent

10:30 am

C.A. Thayer status—Michael Bell, Project Officer

10:45 am

Haslett Visitor Center—Marc Hayman, C, Interpretation & Resource Management

11:15 am

Ships Preservation Report—Wayne Boykin, Ships Manager

11:45 am

Public Comments and Questions

12 pm

Agenda items/Date for next meeting

Michael R. Bell,
Superintendent.

[FR Doc. 01-7377 Filed 3-23-01; 8:45 am]

BILLING CODE 4310-70-P